FEDERAL MEDIATION AND CONCILIATION SERVICE

29 CFR 1402

RIN 3076-AA16

Notice to Mediation Agency

AGENCY: Federal Mediation and Conciliation Service (FMCS).

ACTION: Notice of Proposed Rulemaking (NPRM).

SUMMARY: The Federal Mediation and Conciliation Service (FMCS), hereby publishes notice of proposed rulemaking to solicit comments on the following modification to the submission method of information collection request, Notice to Mediation Agency, (Agency Form F-7). FMCS proposes to change its method of submission from mail-in to electronic submission. In addition, FMCS proposes to remove the language from the Form F-7.

DATES: Comments must be submitted on or before August 23, 2021.

ADDRESSES: You may submit comments through one of the following methods:

• Email: Arthur Pearlstein, apearlstein@fmcs.gov.

• Mail: Arthur Pearlstein, HQ Office of Arbitration, One Independence Square, 250 E St. SW, Washington, DC 20427. Please note that as of September 11, 2020, the FMCS office is not open for visitors and mail is not checked daily. Therefore, we encourage emailed inquiries.

FOR FURTHER INFORMATION CONTACT: Arthur Pearlstein, Director, Arbitration, Notice Processing, Shared Neutrals, apearlstein@fmcs.gov, 202-606-8103.

SUPPLEMENTARY INFORMATION:

I. Background

This modification will change the submission process of information collection request, Notice to Mediation Agency, (Agency Form F-7) from mail-in to electronic submission. This revision is necessary to increase efficiency of FMCS both by allowing FMCS to receive Agency Form F-7's more quickly, but also to reduce processing time. This will allow the Service to provide its services to the parties more quickly. This revision will also remove the language which includes the verbiage of the Form-F7, to allow for FMCS to modify the form, if necessary, without necessitating additional rule change.

II. Authority for This Rulemaking

FMCS' authority to issue rules is found in 29 U.S.C. 172 of Taft Harley Act of 1947. This regulation is within the scope of that authority.

III. Comments Invited

FMCS solicits comments to

(i) Evaluate whether the proposed change of submission from mail-in to electronic is necessary, including whether the change will have practical utility.

(ii) Enhance the quality, utility, and clarity of the information collection submission process.

(iii) Minimize the burden of the collections of information on those who are to respond, including the use of appropriate automated, electronic collection technologies or other forms of information technology.

IV. Discussion of Proposed Amendments Section by Section

The following describes the specific changes proposed by this rulemaking:

• FMCS revises the language “shall be in writing.” to “electronically via a platform provided by FMCS. If electronic submission creates an undue hardship, the filer may contact the FMCS Notice Processing office to explain the circumstances and receive assistance.”

• FMCS revises the language “The following Form F-7, for use by the parties in filing a notice of dispute, has been prepared by the Service:” to “The Form F-7, for use by the parties in filing a notice of dispute, has been prepared by the Service.”

• FMCS removes the form titled “Notice to Mediation Agencies”.

List of Subjects in 29 CFR Part 1402

Information Collection Requests.

In consideration of the foregoing, FMCS proposed to amend 29 CFR 1402.1 as follows:

1. The authority citation for part 1402 continues to read as follows:

Authority: Sec. 202, 61 Stat. 153, sec. 3, 80 Stat. 250, sec. 203, 61 Stat. 153; 5 U.S.C. 552, 29 U.S.C. 172, 173.

2. Revise § 1402.1 to read as follows:

§ 1402.1 Notice of Dispute.

The notice of dispute filed with the Federal Mediation and Conciliation Service pursuant to the provisions of section 8(d)(3), of the Labor-Management Relations Act, 1947, as amended, shall be submitted electronically via a platform provided by FMCS. If electronic submission creates an undue hardship, the filer may contact the FMCS Notice Processing office to explain the circumstances and receive assistance. The Form F-7, for use by the parties in filing a notice of dispute, has been prepared by the Service.

Sarah Cudahy,
General Counsel.

[FR Doc. 2021-14929 Filed 7-21-21; 8:45 am]

BILLING CODE P